DEPARTMENT OF TRANSPORTATION

Federal Aviation Administration

14 CFR Part 39

[Docket No. 99-NM-348-AD]

RIN 2120-AA64

Airworthiness Directives; British Aerospace (Jetstream) Model 4101 Airplanes

AGENCY: Federal Aviation Administration, DOT.

ACTION: Notice of proposed rulemaking (NPRM).

SUMMARY: This document proposes the adoption of a new airworthiness directive (AD) that is applicable to certain British Aerospace (Jetstream) Model 4101 airplanes. This proposal would require inspection of certain components, and corrective action, if necessary. This action is necessary to prevent loosening of the locknut holding the main landing gear (MLG) piston to the ramrod, which could result in detachment of the MLG piston from the ramrod and loss of hydraulic control of the MLG. This action is intended to address the identified unsafe condition.

DATES: Comments must be received by September 28, 2000.

ADDRESSES: Submit comments in triplicate to the Federal Aviation Administration (FAA), Transport Airplane Directorate, ANM-114, Attention: Rules Docket No. 99-NM-348-AD, 1601 Lind Avenue, SW., Renton, Washington 98055-4056. Comments may be inspected at this location between 9:00 a.m. and 3:00 p.m., Monday through Friday, except Federal holidays. Comments may also be sent via the Internet using the following address: 9-anm-nprmcomment@faa.gov. Comments sent via the Internet must contain “Docket No. 99-NM-348-AD” in the subject line and need not be submitted in triplicate. Comments sent via the Internet as attached electronic files must be formatted in Microsoft Word 97 for Windows or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-348-AD.” The postcard will be date stamped and returned to the commenter.

Availability of NPRMs

Any person may obtain a copy of this NPRM by submitting a request to the FAA, Transport Airplane Directorate, ANM-114, Attention: Rules Docket No. 99-NM-348-AD, 1601 Lind Avenue, SW., Renton, Washington 98055-4056.

Discussion

The Civil Aviation Authority (CAA), which is the airworthiness authority for the United Kingdom, notified the FAA that an unsafe condition may exist on certain British Aerospace (Jetstream) Model 4101 airplanes. The CAA advises that the peening of the lockwasher, which locks the locknut holding the main landing gear (MLG) piston to the ramrod, may be insufficient in some cases. The manufacturer of the landing gear, APPH, has reported that MLG units are being returned for overhaul with locknuts having incorrectly peened lockwashers. Incorrect peening of the lockwashers would allow loosening of the locknut during operation. This condition, if not corrected, could result in detachment of the MLG piston from the ramrod and loss of hydraulic control of the MLG.

Explanation of Relevant Service Information

British Aerospace has issued Jetstream Service Bulletin J41-32-068, Revision 1, dated May 12, 2000, which describes procedures for inspecting airplane records to determine the number of landings, the overhaul status, and the presence of ink mark “32-03” on the left and right MLG retract actuators. Depending on the results of this inspection, the service bulletin describes procedures for corrective actions, including overhaul and replacement of the actuator, inspection of the locknut peening of the MLG retract actuator, replacement of the lockwasher and addition of ink mark “32-03.” Accomplishment of the actions specified in the service bulletin is intended to adequately address the identified unsafe condition. The CAA classified this service bulletin as mandatory and issued British airworthiness directive 007-09-99 in order to assure the continued airworthiness of these airplanes in the United Kingdom.

The Jetstream service bulletin references APPH Service Bulletin AIR86496-32-03, Revision 2, dated March 2000, as an additional source of service information for accomplishment of the inspection for loosening of the locknuts and replacement of the lockwasher.

FAA's Conclusions

This airplane model is manufactured in the United Kingdom and is type certificated for operation in the United States under the provisions of § 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the Jetstream service bulletin described previously, except as discussed below.

Difference Between Proposed AD and Service Bulletin

The table in paragraph 2.A.(2) of the Accomplishment Instructions of the Jetstream service bulletin specifies that no further overhaul or inspection actions are necessary for certain MLG retract actuators with fewer than 8,000 landings. However, this AD would require, for any actuator that has not been overhauled, replacement of the actuator prior to further flight or prior to the accumulation of 8,000 total landings on the actuator, whichever occurs later. The FAA has determined that such a requirement is necessary to ensure that all actuators are overhauled by an appropriate compliance threshold.

Cost Impact

The FAA estimates that 59 airplanes of U.S. registry would be affected by this proposed AD, that it would take approximately 1 work hour per airplane to accomplish the proposed inspection, and that the average labor rate is $60 per work hour. Based on these figures, the cost impact of the proposed inspection on U.S. operators is estimated to be $3,540, or $60 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

British Aerospace Regional Aircraft [Formerly Jetstream Aircraft Limited; British Aerospace (Commercial Aircraft) Limited]: Docket 99-NM-348-AD.

Applicability: Model Jetstream 4101 airplanes, certificated in any category; on which any APPH main landing gear (MLG) retract actuator having part number AIR86496, any suffix, is installed.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent loosening of the locknut holding the MLG piston to the ramrod, which could result in detachment of the MLG piston from the ramrod and loss of hydraulic control of the MLG, accomplish the following:

Inspection and Corrective Actions

(a) Within 18 months after the effective date of this AD: Inspect the airplane records to determine the overhaul status and number of landings on the left and right MLG retract actuators, and inspect the actuators for the presence of ink mark “32-03,” in accordance with Jetstream Service Bulletin J41-32-068, Revision 1, dated May 12, 2000.

(1) If both actuators have been overhauled and ink mark “32-03” is present on each actuator, no further action is required by this AD.

(2) For any actuator that has been overhauled but does not have ink mark “32-03” present on the actuator: Within 2 years after the effective date of this AD, accomplish all applicable corrective actions for that actuator (including inspection of locknut peening, lockwasher replacement, and ink marking), in accordance with Part 3 or Part 4, as applicable, of the Accomplishment Instructions of the service bulletin.

(3) For any actuator that has not been overhauled: Prior to further flight, or prior to the accumulation of 8,000 total landings on that actuator, whichever occurs later, replace the actuator with an overhauled actuator having ink mark “32-03” present, in accordance with Part 1 or Part 2, as applicable, of the Accomplishment Instructions of the service bulletin.

Note 2: Jetstream Service Bulletin J41-32-068, Revision 1, dated May 12,2000, refers to APPH Service Bulletin AIR86496-32-03, Revision 2, dated March 2000, as an additional source of service information for the inspection of locknut peening and the lockwasher replacement.

Spares

(b) As of the effective date of this AD, no APPH MLG retract actuator having P/N AIR86496, any suffix, may be installed on any airplane unless the actuator is marked with ink mark “32-03.” Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Note 4: The subject of this AD is addressed in British airworthiness directive 007-09-99.

Issued in Renton, Washington, on August 23, 2000.
Donald L. Riggin,
Acting Manager, Transport Airplane Directorate, Aircraft Certification Service.

[FR Doc. 00-21996 Filed 8-28-00; 8:45 am]

BILLING CODE 4910-13-U